DEPARTMENT OF COMMERCE

National Institute of Standards and Technology

Federated Cloud Public Working Group

AGENCY: National Institute of Standards and Technology, Commerce.

ACTION: Notice; announcement of working group teleconference.

SUMMARY: The NIST Cloud Computing Program (NCCP) announces the reconstitution of its Federated Cloud Public Working Group. The Working Group's activities will resume and initiate work to develop a vocabulary of terms to support federated cloud and federated cloud environments, as well as a conceptual architecture for federated cloud. Participation in the Working Group is open to all interested parties.

DATES: An initial teleconference will take place on Thursday, August 31, 2017, at 10:00 a.m. Eastern Time. The goal for completion of the work is June 30, 2018.

FOR FURTHER INFORMATION CONTACT: Robert Bohn, National Institute of Standards and Technology, 100 Bureau Drive, Gaithersburg, Maryland 20899-4800, telephone number 301-975-4731, email: robert.bohn@nist.gov.

SUPPLEMENTARY INFORMATION: The NCCP announces the reconstitution of its Federated Cloud Public Working Group (Working Group). The Working Group was formed to address Requirement #5 of NIST's US Government Cloud Computing Technology Roadmap (NIST SP 500-293) (Cloud Computing Roadmap), “Frameworks to Support Federated Community Clouds.” This requirement calls for “frameworks to support seamless implementation of federated community cloud environments.” The Working Group's activities will resume and initiate work to try and fully understand and describe the elements of federated cloud computing. Assorted topics include developing and gaining consensus on a common federated cloud computing vocabulary, as well as developing an underlying conceptual model of what federated cloud computing is, its major components, and users/stakeholders.

An initial teleconference will take place on Thursday, August 31, 2017, at 10:00 a.m. Eastern Time. The dial-in number is 1-877-953-0273, and the passcode is 456-4979. Members of the public who wish to participate in the teleconference should provide their name and email address to fedcloud@nist.gov, no later than 5:00 p.m. Eastern Time on Thursday, August 24, 2017. Responses received after the deadline will also be added to the group's mailing list, but they may not receive initial documentation prior to the first meeting. Members of the public who provide their email addresses but who cannot participate in the initial teleconference will still be notified about subsequent meetings. It is anticipated that there will be subsequent monthly meetings by teleconference on the fourth Thursday of every month from either 11:00 a.m. to 1:00 p.m. Eastern Time or 1:30 p.m. to 3:00 p.m. Eastern Time. A schedule of meeting times will be provided to all participants who submit their name and email address as provided above. Participation in the Working Group is open to all interested parties; there is no fee to participate. Standing Rules Documents explaining how the group will be run will be made available at the first meeting to all Working Group members. Final technical recommendations from the Working Group will be made publicly accessible on the NIST Cloud Computing Portal, and NIST may make the results of this Working Group available to Standards Developing Organizations and other interested parties.

Background

The Cloud Computing Roadmap is being used industry-wide to advance the rapid adoption of cloud computing. Two of the 10 requirements (numbers 5 and 8) in the Cloud Computing Roadmap point to the next generation of cloud computing which will be focused on the concept of federated clouds. Federated clouds represent a future where there is seamless integration between multiple cloud service providers. Fulfilling this vision of the future of cloud computing will require a foundational effort to understand all the technological and standards-based obstacles that will need to be addressed to build the necessary underlying architecture.

Scope

The scope of the project is to fully understand and describe the elements of federated cloud computing. This will involve developing and gaining consensus on a common federated cloud computing vocabulary, as well as developing an underlying conceptual model of what federated cloud computing is, its major components, and users/stakeholders. The Working Group will then use that conceptual model to map out an implementation strategy including a gap analysis to identify the missing technologies and standards needed to cultivate a seamless system of systems. The anticipated results are:

• Federated Cloud Computing Vocabulary;

• Conceptual Model of Federated Clouds; and

• Technology Gap Analysis.

The Working Group will also investigate and identify the needed technologies, tools, and standards to enable these environments. They will use material from NIST's Cloud Computing Reference Architecture (NIST SP 500-292) and materials located at the group's public twiki site: http://collaborate.nist.gov/twiki-cloud-computing/bin/view/CloudComputing/RATax_FedCommunity.

The Working Group will work in a coordinated effort with the IEEE ICWG/2302 WG—Intercloud Working Group to produce an implementation of this reference material and create a compliant technical standard. A list of NIST's Cloud Computing Working Groups can be found at http://collaborate.nist.gov/twiki-cloud-computing/bin/view/CloudComputing/WebHome#Working_Groups_of_NIST_Cloud_Com. The work of the NIST Cloud Computing Working Groups is interrelated, and this Working Group will also liaise with other working groups as needed.

Authority: 15 U.S.C. 272(b)(3) & (c)(12).

Kevin Kimball,
NIST Chief of Staff.

[FR Doc. 2017-18354 Filed 8-29-17; 8:45 am]

BILLING CODE 3510-13-P